DEPARTMENT OF HOUSING AND URBAN DEVELOPMENT

[Docket No. FR-5871-N-02]

Notice of Regulatory Waiver Requests Granted for the Second Quarter of Calendar Year 2015

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2015, and ending on June 30, 2015.

FOR FURTHER INFORMATION CONTACT: For general information about this notice, contact Camille E. Acevedo, Associate General Counsel for Legislation and Regulations, Department of Housing and Urban Development, 451 Seventh Street SW., Room 10282, Washington, DC 20410-0500, telephone 202-708-1793 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the second quarter of calendar year 2015.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2015 through June 30, 2015. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2015) before the next report is published (the third quarter of calendar year 2015), HUD will include any additional waivers granted for the second quarter in the next report.

Accordingly, information about approved waiver requests pertaining to HUD regulations is provided in the Appendix that follows this notice.

Dated: September 14, 2015.
Helen R. Kanovsky,
General Counsel.

Appendix

Listing of Waivers of Regulatory Requirements Granted by Offices of the Department of Housing and Urban Development April 1, 2015 Through June 30, 2015

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Government National Mortgage Association.

III. Regulatory waivers granted by the Office of Housing.

IV. Regulatory waivers granted by the Office of Public and Indian Housing.

I. Regulatory Waivers Granted by the Office of Community Planning and Development

For further information about the following regulatory waivers, please see the name of the contact person that immediately follows the description of the waiver granted.

• Regulation: 24 CFR 92.214(a)(6).

Project/Activity: Chester County, PA, Department of Community Development requested a waiver of 24 CFR 92.214(a)(6) to invest up to $190,000 of HOME Investment Partnerships (HOME) program funds to purchase a previously assisted 4-unit rental housing project assisted under the HOME program that was in mortgage foreclosure.

Nature of Requirement: The regulation at 24 CFR 92.214(a)(6) prohibits assistance to a project previously assisted with HOME funds during the period of affordability established by the participating jurisdiction in the written agreement under 24 CFR 92.504.

Granted By: Clifford Taffet, General Deputy Assistant Secretary for Community Planning and Development.

Date Granted: April 6, 2015.

Reason Waived: The waiver was granted to permit the County to invest additional HOME funds in the HOME-assisted project during the period of affordability in order to preserve the units as affordable housing. The initial and new investment of HOME funds was within the applicable maximum per-unit subsidy limits, and the HOME period of affordability was extended for an additional ten years.

Contact: Virginia Sardone, Director, Office of Affordable Housing Programs, Office of Community Planning and Development, Department of Housing and Urban Development, 451 Seventh Street SW., Room 7164, Washington, DC 20410, telephone (202) 708-2684.

• Regulation: 24 CFR 570.513(b)(2) and (b)(9).

Project/Activity: The City of Detroit, MI requested a waiver of 24 CFR 570.513(b)(2) and (b)(9) to facilitate the funding of its Home Repair Program, a local housing rehabilitation program. The City planned to fund its program through a lump sum drawdown and arranged for its subrecipient Local Initiative Support Coalition (LISC) to administer the program. LISC arranged for two separate private financial institutions to provide required consideration for the deposit of funds rather than one institution as contemplated by CDBG program regulations. The first institution, Bank of America, agreed to provide LISC with $4 million in funding for the program but declined to be a party to a lump sum drawdown agreement as required under 24 CFR 570.513(b)(2). The second institution, JP Morgan Chase (Chase), agreed to serve as LISC's depository institution, and agreed to be a party to a lump sum agreement and provide the appropriate benefits required under 24 CFR 570.513(b)(9) in support of the program. The City requested a waiver of 24 CFR 570.513(b)(2) and (b)(9) to allow the City to enter into an agreement with LISC and Chase to the extent necessary to allow two separate financial institutions to provide the appropriate benefits in support of the city's local housing rehabilitation program.

Nature of Requirement: The regulation at 24 CFR 570.513(b)(2) requires financial institutions that provide financing for a lump sum fund to execute a written lump sum agreement and specify the obligations and responsibilities of the parties, the terms and conditions on which Community Development Block Grant (CDBG) funds are to be deposited and used or returned, the anticipated level of rehabilitation activities by the financial institution, the rate of interest and other benefits to be provided by the financial institution in return for the lump sum deposit, and such other terms as are necessary for compliance with the provisions of this section. The regulation at 24 CFR 570.513(b)(9) requires the private financial institution in which the funds are deposited to provide other benefits in addition to the payment of interest. These benefits may include the leveraging of the deposited funds, the commitment of private funds at below market interest rates, or the provision of administrative services in support of the rehabilitation program.

Granted By: Harriet Tregoning, Principal Deputy Assistant Secretary for Community Planning and Development.

Date Granted: May 18, 2015.

Reason Waived: Granting the waiver of 24 CFR 570.513(b)(2) and (b)(9) allowed the City of Detroit to enter into an agreement with LISC and Chase to the extent necessary to allow two separate financial institutions to provide the appropriate benefits in support of the city's local housing rehabilitation program. By granting these waivers, the program could be fully implemented bringing needed investment to the City.

Contact: Steve Johnson, Director of Entitlement Communities Division, Office of Community Planning and Development, Department of Housing and Urban Development, 451 Seventh Street SW., Room 7282, Washington, DC 20410, telephone (202) 402-4548.

• Regulation: 24 CFR 570.503(b)(7).

Project/Activity: The County of San Luis Obispo, CA, requested a waiver to allow its subrecipient, the Food Bank Coalition of San Luis Obispo County, to sell a CDBG-funded food bank in Paso Robles and relocate the food bank's operations to a new larger and more efficient facility that will be constructed in part with the proceeds of the sale. The use of the new facility will meet the same national objective as the existing site and will serve a greater number of people in the County.

Nature of Requirement: The regulation at 24 CFR 570.503(b)(7) states that a property acquired by a subrecipient with CDBG funds must be used to meet one of the national objectives in 24 CFR 570.208 until five years after the expiration of the subrecipient agreement. If the property is not used to meet a national objective, the subrecipient must reimburse the county an amount equal to the prorated share of the current fair market value of the property.

Granted By: Harriet Tregoning, Principal Deputy Assistant Secretary for Community Planning and Development.

Date Granted: June 3, 2015.

Reason Waived: This waiver allowed the Food Bank Coalition of San Luis Obispo County to move the food bank from Paso Robles to a new larger and more efficient location that will serve a larger CDBG-eligible population. Rather than reimburse the CDBG program, the Food Bank Coalition will sell the existing Paso Robles site and use the proceeds to help pay for the new facility. A waiver of 24 CFR 570.503(b)(7) was required to allow the Food Bank Coalition to use the proceeds to construct the new facility rather than reimburse the County, and to effect the transfer of programmatic requirements. The CDBG investment and program requirements will be transferred to the new facility and the use of the new facility will meet the same national objective as the use of the existing site.

Contact: Steve Johnson, Director of Entitlement Communities Division, Office of Community Planning and Development, Department of Housing and Urban Development, 451 Seventh Street SW., Room 7282, Washington, DC 20410, telephone (202) 402-4548.

II. Regulatory Waivers Granted by the Office of Government National Mortgage Association (Ginnie Mae)

For further information about the following regulatory waivers, please see the name of the contact person that immediately follows the description of the waiver granted.

• Regulation: 24 CFR 330.20(a)(2)(i)(D).

Project/Activity: Amherst Pierpont Securities LLC (APS) eligibility for approval as a Sponsor of Ginnie Mae guaranteed structured securities.

Nature of Requirement: The regulation at 24 CFR 330.20(a)(2)(i)(D) establishes certain eligibility requirements for an entity applying for approval as a Ginnie Mae Sponsor. An applicant must submit an audited financial statement, which must be issued within the preceding 12 month period that demonstrates compliance with the minimum required amount of shareholders' equity or partners' capital in accordance with Ginnie Mae guidelines.

Granted By: Theodore W. Tozer, President, Ginnie Mae.

Date Granted: June 30, 2015.

Reason Waived: On October 10, 2014 Pierpont Securities LLC (Pierpont Securities) acquired 100% of Amherst ASG Holdings, LLC (Amherst Securities Group) through an exchange of the Parent Company's equity units. Since the acquisition occurred after September 30, 2014, the next audited financial statement will be on the fiscal year that ends later in 2015. The timing of the merger is a special circumstance for APS. Therefore, Ginnie Mae found good cause existed to issue a one-time waiver of the requirement for an applicant for approval as a sponsor to submit an audited financial statement issued within the preceding 12 month period.

Contact: William Hughes, Transaction Management Specialist, Office of Capital Markets, Government National Mortgage Association, Department of Housing and Urban Development, 550 12th Street SW., Suite 300, Washington, DC 20410, telephone (202) 475-4924.

III. Regulatory Waivers Granted by the Office of Housing—Federal Housing Administration (FHA)

For further information about the following regulatory waivers, please see the name of the contact person that immediately follows the description of the waiver granted.

• Regulation: 24 CFR 200.72.

Project/Activity: New York Society for the Relief of the Ruptured and Crippled, Maintaining the Hospital for Special Surgery (HSS) is a not-for-profit, nationally recognized 162-bed academic medical center that specializes in orthopedics and rheumatology and is a member of the New York-Presbyterian Healthcare System and an affiliate of the Weill Medical College of Cornell University. HSS main facilities are located in New York City, New York, with other physician offices, rehabilitation and outpatient centers located in Long Island and Upstate New York, Connecticut, New Jersey, and Florida.

Nature of Requirement: The regulation mandates the project, when completed, shall not violate any material zoning or deed restrictions applicable to the project site, and shall comply with all applicable building and other governmental codes, ordinances, regulations and requirements.

Granted By: Edward L. Golding, Principal Deputy Assistant Secretary for Housing.

Date Granted: May 18, 2015.

Reason Waived: The Hospital does not meet all of the applicable building codes, because it does not have a Permanent Certificate of Occupancy (PCO) for the building, but has a Temporary Certificate of Occupancy. HSS will be able to move to Final Endorsement, enabling the completion of their expansion plan, which includes adding two new inpatient nursing units, expanded pharmacy and pediatric rehabilitation departments and three additional inpatient operating rooms.

Contact: Shelley M. McCracken-Rania, Senior Financial Analyst, Office of Healthcare Programs, Office of Housing, Department of Housing and Urban Development, 451 7th Street SW., Room 2247, Washington, DC 20410, telephone 202-402-5366.

• Regulation: 24 CFR 200.926d(f)(1)(i) and (f)(2)(i).

Project/Activity: An extension of the waiver of Minimum Property Standards (MPS) regulations pertaining to water supply systems was requested to permit FHA insurance of mortgages secured by properties located in certain areas of the State of Alaska that rely upon water holding tanks and similar alternative water supply systems.

Nature of Requirement: FHA's MPS regulations governing new construction for single family dwellings provide that to be eligible for FHA insurance, each living unit within newly constructed single family residential property should be capable of delivering a flow of five gallons per minute over a four hour period in order to provide a continuing and sufficient supply of safe water under adequate pressure and appropriate quality for household use. Under these regulatory requirements, water holding tanks, cisterns and similar alternative water supply systems are not considered under FHA requirements as acceptable water supply systems.

Granted By: Edward Golding, Principal Deputy Assistant Secretary for Housing.

Date Granted: May 1, 2015.

Reason Waived: The Santa Ana Homeownership Center requested an additional one year extension of the waiver pending publication of a proposed and final rule on alternative water supply systems.

Contact: Cheryl Walker, Director, Home Valuation Policy Division, Office of Housing, Department of Housing and Urban Development, 451 Seventh Street SW., Room 9274, Washington, DC 20410, telephone (202) 402-6880.

• Regulation: 24 CFR 219.220(b).

Project/Activity: Germano-Millgate Apartments, FHA Project Number 071-44081, Chicago, Illinois. The owners requested deferral of repayment of the Flexible Subsidy Operating Assistance Loan on this project due to their inability to repay the loan in full upon prepayment of the 236 Loan.

Nature of Requirement: The regulation at 24 CFR 219.220(b) governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project . . .” Either of these actions would typically terminate FHA involvement with the property, and the Flexible Subsidy Loan would be repaid, in whole, at that time.

Granted By: Edward L. Golding, Principal Deputy Assistant Secretary for Housing.

Date Granted: June 25, 2015.

Reason Waived: The owner requested and was granted waiver of the requirement to defer repayment of the Flexible Subsidy Operating Assistance Loan to allow the much needed preservation and moderate rehabilitation of the project. The project will be preserved as an affordable housing resource of Chicago, Illinois.

Contact: Minnie Monroe-Baldwin, Branch Chief, Affordable Housing Transaction, Office of Housing, Department of Housing and Urban Development, 451 Seventh Street SW., Room 6222, Washington, DC 20410, telephone (202) 402-2636.

• Regulation: 24 CFR 219.220(b).

Project/Activity: J.O. Blanton House, FHA Project Number 083-44025, Louisville, KY. Fifth Street High Rise, Incorporated (owner) seeks approval to defer repayment of the Flexible Subsidy Operating Assistance Loans on the subject project.

Nature of Requirement: The regulation at 24 CFR 219.220(b) (1995), which governs the repayment of operating assistance provided under the Flexible Subsidy Program for Troubled Properties, states “Assistance that has been paid to a project Owner under this subpart must be repaid at the earlier of the expiration of the term of the mortgage, termination of mortgage insurance, prepayment of the mortgage, or a sale of the project.”

Granted By: Edward L. Golding, Principal Deputy Assistant Secretary for Housing.

Date Granted: June 26, 2015.

Reason Waived: The owner requested and was granted waiver of the requirement to defer repayment of the Flexible Subsidy Operating Assistance Loan. Deferring the loan payment will preserve this affordable housing resource for an additional 35 years through the execution and recordation of a Rental Use Agreement.

Contact: James Wyatt, Account Executive, Office of Housing, Department of Housing and Urban Development, 451 Seventh Street SW., Room 6172, Washington, DC 20410, telephone (202) 402-2591.

• Regulation: 24 CFR 232.7.

Project/Activity: Cedar Creek Alzheimer & Dementia Care is a memory care facility. The facility does not meet the requirements of 24 CFR 232.7 pertaining to the configuration of bathrooms in such facilities. The project is located in Los Gatos, CA.

Nature of Requirement: The regulation mandates that, in a board and care home or assisted living facility, not less than one full bathroom must be provided for every four residents, and that the bathroom cannot be accessed from a public corridor or area.

Granted By: Edward L. Golding, Principal Deputy Assistant Secretary for Housing.

Date Granted: May 12, 2015.

Reason Waived: The project is for memory care, all rooms have half-bathrooms and the resident to full bathroom ratio is 9.67: 1.

Contact: Vance T. Morris, Special Assistant, Office of Healthcare Programs, Office of Housing, Department of Housing and Urban Development, 451 7th Street SW., Room 2337, Washington, DC 20401, telephone 202-402-2419.

• Regulation: 24 CFR 232.7.

Project/Activity: Oak Creek Alzheimer & Dementia Care is a memory care facility. The facility does not meet the requirements of 24 CFR 232.7 pertaining to the configuration of bathrooms in such facilities. The project is located in Castro Valley, CA.

Nature of Requirement: The regulation mandates that, in a board and care home or assisted living facility, not less than one full bathroom must be provided for every four residents, and that the bathroom cannot be accessed from a public corridor or area.

Granted By: Edward L. Golding, Principal Deputy Assistant Secretary for Housing.

Date Granted: May 12, 2015.

Reason Waived: The project is for memory care, all rooms have half-bathrooms and the resident to full bathroom ratio is 10: 1.

Contact: Vance T. Morris, Special Assistant, Office of Healthcare Programs, Office of Housing, Department of Housing and Urban Development, 451 7th Street SW., Room 2337, Washington, DC 20401, telephone 202-402-2419.

• Regulation: 24 CFR 232.7.

Project/Activity: Runk and Pratt is a memory care facility. The facility does not meet the requirements of 24 CFR 232.7 pertaining to the configuration of bathrooms in such facilities. The project is located in Forest, Va.

Nature of Requirement: The regulation mandates that, in a board and care home or assisted living facility, not less than one full bathroom must be provided for every four residents, and that the bathroom cannot be accessed from a public corridor or area.

Granted By: Edward L. Golding, Principal Deputy Assistant Secretary for Housing.

Date Granted: May 12, 2015.

Reason Waived: The project is for memory care, all rooms have half-bathrooms and the resident to full bathroom ratio is 7.28: 1.

Contact: Vance T. Morris, Special Assistant, Office of Healthcare Programs, Office of Housing, Department of Housing and Urban Development, 451 7th Street SW., Room 2337, Washington, DC 20401, telephone 202-402-2419.

• Regulation: 24 CFR 232.7.

Project/Activity: Via Christie is a memory care facility. The facility does not meet the requirements of 24 CFR 232.7 pertaining to the configuration of bathrooms in such facilities. The project is located in Omaha, NE.

Nature of Requirement: The regulation mandates that, in a board and care home or assisted living facility, not less than one full bathroom must be provided for every four residents, and that the bathroom cannot be accessed from a public corridor or area.

Granted By: Edward L. Golding, Principal Deputy Assistant Secretary for Housing.

Date Granted: May 18, 2015.

Reason Waived: The project is for memory care, all rooms have half-bathrooms and the resident to full bathroom ratio is 10:1.

Contact: Vance T. Morris, Special Assistant, Office of Healthcare Programs, Office of Housing, Department of Housing and Urban Development, 451 7th Street SW., Room 2337, Washington, DC 20401, (O) 202-402-2419.

• Regulation: 24 CFR 266.200(b)(2).

Project/Activity: Federal Financing Bank (FFB) Risk Sharing Initiative, Substantial Rehabilitation Defined. New York City Housing Development Corporation (NYCHDC).

Nature of Requirement: The regulation at 24 CFR 266.200(b)(2) defines substantial rehabilitation. The following changes to the definition were temporarily made for both Level I and II Housing Finance Agencies: Work that exceeds either: (a) $15,000 times the high cost factor “as adjusted by HUD for inflation”, or (b) replacement of two or more building systems. `Replacement' is when cost of replacement work exceeds 50 percent of the cost of replacing the entire system. The base limit is revised to $15,000 per unit for 2015, and will be adjusted annually based on the percentage change published by the Consumer Financial Protection Bureau, or other inflation cost index published by HUD. This change is consistent with proposed changes in the MAP Guide.

Granted By: Edward L. Golding, Principal Deputy Assistant Secretary for Housing.

Date Granted: May 18, 2015.

Reason Waived: The temporary changes were necessary to effectuate the Federal Financing Bank (FFB) Risk Sharing Initiative between Housing and Urban Development and the Treasury Department/FFB announced in Fiscal Year 2014. There are 11 qualified HFAs participants. Concurrent with the rollout of the FFB Initiative, HUD's Office of Multifamily Housing is beginning the process of making regulatory changes to these same provisions. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.200(c)(2).

Project/Activity: Federal Financing Bank (FFB) Risk Sharing Initiative, Equity Take-Outs. New York City Housing Development Corporation (NYCHDC).

Nature of Requirement: HUD's regulation at 266.200(c)(2) addresses equity take-outs for existing projects (refinance transactions), and permit the insured mortgage to exceed the sum of the total cost of acquisition, cost of financing, cost of repairs, and reasonable transaction costs or “equity take-outs” in refinances of HFA-financed projects and those outside of HFA's portfolio if the result is preservation with the following conditions:

1. Occupancy is no less than 93 percent for previous 12 months;

2. No defaults in the last 12 months of the HFA loan to be refinanced;

3. A 20-year affordable housing deed restriction placed on title that conforms to the section 542(c) statutory definition;

4. A Property Capital Needs Assessment (PCNA) must be performed and funds escrowed for all necessary repairs, and reserves funded for future capital needs; and

5. For projects subsidized by Section 8 Housing Assistance Payment (HAP) contracts: Owner agrees to renew HAP contract(s) for 20 year term, (subject to appropriations and statutory authorization, etc.), and existing and post-refinance HAP residual receipts are set aside to be used to reduce future HAP payments.

Granted By: Edward L. Golding, Principal Deputy Assistant Secretary for Housing.

Date Granted: May 18, 2015.

Reason Waived: The waiver was necessary to effectuate the Federal Financing Bank (FFB) Risk Sharing Initiative between Housing and Urban Development and the Treasury Department/FFB announced in Fiscal Year 2014. There are 11 qualified HFAs participants. Concurrent with the rollout of the FFB Initiative, HUD's Office of Multifamily Housing is beginning the process of making regulatory changes to these same provisions. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.200(d).

Project/Activity: Federal Financing Bank (FFB) Risk Sharing Initiative, Underwriting of Projects with Section 8 HAP Contracts. New York City Housing Development Corporation (NYCHDC).

Nature of Requirement: HUD's regulation at 24 CFR 266.200(d) pertains to projects with Section 8 rental subsidies or other rental subsidies: For refinancing of Section 202 projects, and for Public Housing Agency (PHA) projects converting to Section 8 through RAD, HUD will permit NYCHDC to underwrite the financing using current or to be adjusted project-based Section 8 assisted rents, even though they exceed the market rates. This is consistent with HUD Housing Notice 04-21, “Amendments to Notice 02-16: Underwriting Guidelines for Refinancing of Section 202, and Section 202/8 Direct Loan Repayments”, which grants authority only to those lenders refinancing with mortgage programs under the National Housing Act.

Granted By: Edward L. Golding, Principal Deputy Assistant Secretary for Housing.

Date Granted: May 18, 2015.

Reason Waived: The waiver was necessary to effectuate the Federal Financing Bank (FFB) Risk Sharing Initiative between Housing and Urban Development and the Treasury Department/FFB announced in Fiscal Year 2014. The waiver is consistent with changes that HUD's Office of Multifamily Housing is seeking now to the regulation and as previously approved in March 2015 for the first 11 HFAs participating in the Initiative. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.410(e).

Project/Activity: Minnesota Housing Finance Agency, for Crystal Lake Townhomes, Grand Rapids, Minnesota.

Nature of Requirement: The regulation at 24 CFR 266.410(e) pertaining to amortization states that the mortgage must provide for complete amortization (i.e., regularly amortizing) over the term of the mortgage. This is financing under the Risk Sharing Program.

Granted By: Edward L. Golding, Principal Deputy Assistant Secretary for Housing.

Date Granted: May 5, 2015.

Reason Waived: The granting of this waiver promotes preservation and affordability with minimal increased risk to the FHA Insurance Fund. Minnesota's HFA project is a 48-unit property located in the city of Grand Rapids. The approval, however, is subject to the following conditions: (1) Minnesota Housing Finance Agency (MN Housing) will assume 50 percent of the risk, and (2) annual property inspections will be performed with appropriate adjustments made to the replacement reserves as needed to ensure the Project is maintained in good physical condition. Minnesota will finance Crystal Lake Townhomes (Project) with a mortgage that will mature in November, 2041 with a small balloon payment of preservation property receiving the benefit of a Section 8 subsidy for all units.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.620(e).

Project/Activity: Federal Financing Bank (FFB) Risk Sharing Initiative, Termination of Mortgage Insurance. New York City Housing Development Corporation (NYCHDC). Waivers of these 4 sections of the regulation were approved in March, 2015 for the first 11 HFAs approved to participate in the Initiative.

Nature of Requirement: The regulation at 24 CFR 266.620(e), pertains to termination of mortgage insurance provision (required for FFB Initiative). As required by the Initiative, New York City Housing Development Corporation (NYCHDC) agrees to indemnify HUD for all amounts paid to FFB if “the HFA or its successors commit fraud, or make a material misrepresentation to the Commissioner with respect to information culminating in the Contract of Insurance on the mortgage, or while the Contract of Insurance is in existence”. Only Level I HFAs are eligible for FFB financing, thereby ensuring the HFA maintains financial capacity to perform under the indemnification agreement. If the HFA loses its “A” rating, HFA must post the required reserve account as outlined in 24 CFR part 266.

Granted By: Edward L. Golding, Principal Deputy Assistant Secretary for Housing.

Date Granted: May 18, 2015.

Reason Waived: The waiver was necessary to effectuate the Federal Financing Bank (FFB) Risk Sharing Initiative between Housing and Urban Development and the Treasury Department/FFB announced in Fiscal Year 2014. There are 11 qualified HFAs participants. Concurrent with the rollout of the FFB Initiative, HUD's Office of Multifamily is beginning the process of making regulatory changes to these same provisions. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

IV. Regulatory Waivers Granted by the Office of Public and Indian Housing

For further information about the following regulatory waivers, please see the name of the contact person that immediately follows the description of the waiver granted.

• Regulation: 24 CFR 5.801(d)(1), 24 CFR 902.33(c) and 902.62(a)(3).

Project/Activity: Colorado Division of Housing (CO911) Denver, CO.

Nature of Requirement: These regulations establish certain reporting compliance dates. The audited financial statements are required to be submitted to the Real Estate Assessment Center (REAC) no later than nine months after the housing authority's (HA) fiscal year end (FYE), in accordance with the Single Audit Act and OMB Circular A-133.

Granted By: Lourdes Castro Ramirez, Principal Deputy Assistant Secretary for Public and Indian Housing.

Date Granted: May 29, 2015.

Reason Waived: The Housing Authority (Section 8-only entity) requested a waiver to obtain additional time to allow for input of its FYE June 30, 2014 audited financial data into the FASS online system. The State's single audited financial information had recently been submitted.

Contact: Scott Sherman, Acting Program Manager, NASS, Real Estate Assessment Center, Office of Public and Indian Housing, Department of Housing and Urban Development, 550 12th Street SW., Suite 100, Washington, DC 20410, telephone (202) 475-7975.

• Regulation: 24 CFR 5.801(d)(1), 24 CFR 902.33(c) and 902.62(a)(3).

Project/Activity: Center Housing Authority (CO043) Center, CO.

Nature of Requirement: These regulations establish certain reporting compliance dates. The audited financial statements are required to be submitted to the Real Estate Assessment Center (REAC) no later than nine months after the housing authority's (HA) fiscal year end (FYE), in accordance with the Single Audit Act and OMB Circular A-133.

Granted By: Lourdes Castro Ramirez, Principal Deputy Assistant Secretary for Public and Indian Housing.

Date Granted: May 29, 2015.

Reason Waived: The Housing Authority requested a waiver to obtain additional time to allow for input of its FYE June 30, 2014 audited financial data into the FASS online system, and to remove the LPF score of zero as it pertains to the Public Housing Assessment System (PHAS). The HAs auditor was involved in an auto accident. The audited data was subsequently submitted on April 1, 2015 (one-day late).

Contact: Scott Sherman, Acting Program Manager, NASS, Real Estate Assessment Center, Office of Public and Indian Housing, Department of Housing and Urban Development, 550 12th Street SW., Suite 100, Washington, DC 20410, telephone (202) 475-7975.

• Regulation: 24 CFR 5.801(d)(1).

Project/Activity: Easton Housing Authority (MD019) Easton, MD.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Lourdes Castro Ramirez, Principal Deputy Assistant Secretary for Public and Indian Housing.

Date Granted: May 13, 2015.

Reason Waived: The HA requested a waiver to obtain an extension (until May 15, 2015) to submit its audited financial data for FYE June 30, 2014. The HA indicated that additional time is necessary due to extensive damages incurred to its Administrative office resulting in ruptured pipelines that destroyed computers and files.

Contact: Scott Sherman, Acting Program Manager, NASS, Real Estate Assessment Center, Office of Public and Indian Housing, Department of Housing and Urban Development, 550 12th Street SW., Suite 100, Washington, DC 20410, telephone (202) 475-7975.

• Regulation: 24 CFR 5.801(d)(1).

Project/Activity: Tallahassee Housing Authority (FL073), Tallahassee, FL.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Lourdes Castro Ramirez, Principal Deputy Assistant Secretary for Public and Indian Housing.

Date Granted: May 6, 2015.

Reason Waived: The Housing Authority (HA) requested a waiver of 24 CFR 5.110 to obtain a 60-day extension (until May 30, 2015) to submit its audited financial data for fiscal year end (FYE) June 30, 2014. The HA experienced numerous ledger balances and accounting errors due to fraud, having difficulty procuring a qualified Finance Director, and had recently converted to a new software system.

Contact: Judy Wojciechowski, Program Manager, NASS, Real Estate Assessment Center, Office of Public and Indian Housing, Department of Housing and Urban Development, 550 12th Street SW., Suite 100, Washington, DC 20410, telephone (202) 475-7907.

• Regulation: 24 CFR 982.516(a)(2)(ii).

Project/Activity: Raleigh County Housing Authority (RCHA), Raleigh, NC.

Nature of Requirement: The regulation at 24 CFR 982.516(a)(2)(ii) states that the public housing agency must obtain and document in the tenant file third-party verification of the value of assets or must document in the tenant file why third-party verification was not available.

Granted By: Lourdes Castro Ramírez, Principal Deputy Assistant Secretary for Public and Indian Housing.

Date Granted: May 13, 2015.

Reason Waived: The majority of participants have less than $5,000 in asset income; (2) the cost of obtaining third-party documentation is borne by participants; and (3) waiting for such documentation frequently delays the completion of interim and annual reexaminations. A proposed regulation issued by the Department and published in the Federal Register on January 6, 2015 (Streamlining Administrative Regulations for Public Housing, Housing Choice Voucher, Multifamily Housing, and Community Planning and Development Programs) would likewise authorize self-certification of assets of $5,000 or less.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.503(a)(3) and 982.503(c)(2).

Project/Activity: Housing Authority of the County of Alameda (HACA), Hayward, CA.

Nature of Requirement: The regulation at 24 CFR 982.503(a)(3) states that a PHA's voucher payment standard schedule shall establish a single payment standard amount for each unit size. The regulation at 24 CFR 982.503(c)(2) states that the HUD Field Office may approve an exception payment standard amount from above 110 percent of the published fair market rents (FMR) if the HUD Field Office determines that approval is justified by either the median rent method or the 40th or 50th percentile rent method and that such approval is also supported by an appropriate program justification.

Granted By: Lourdes Castro Ramírez, Principal Deputy Assistant Secretary for Public and Indian Housing.

Date Granted: May 5, 2015.

Reason Waived: These regulations were waived to allow HACA to establish payment standards at 120 percent of the FMR for all bedroom sizes in all areas of the county for its HUD-Veterans Affairs Supportive Housing (VASH) program. These families generally have a more difficult time finding units before their vouchers expire and require 40 percent more voucher extensions than non-HUD-VASH families in a low vacancy area.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Colorado Department of Local Affairs (CDLA), Denver, CO.

Nature of Requirement: The regulation at 24 CFR 982.505(d) states that a PHA may only approve a higher payment standard for a family as a reasonable accommodation if the higher payment standard is within the basic range of 90 to 110 percent of the fair market rent (FMR) for the unit size.

Granted By: Lourdes Castro Ramírez, Principal Deputy Assistant Secretary for Public and Indian Housing.

Date Granted: April 15, 2015.

Reason Waived: The participant, who is a person with disabilities, required an exception payment standard to remain in the participant's current unit that meets the participant's needs To provide this reasonable accommodation so that the participant could remain in the participant's current unit and pay no more than 40 percent of adjusted income toward the family share, the CDLA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Housing Authority of the County of Alameda (HACA), Hayward, CA.

Nature of Requirement: The regulation at 24 CFR 982.505(d) states that a PHA may only approve a higher payment standard for a family as a reasonable accommodation if the higher payment standard is within the basic range of 90 to 110 percent of the fair market rent (FMR) for the unit size.

Granted By: Lourdes Castro Ramírez, Principal Deputy Assistant Secretary for Public and Indian Housing.

Date Granted: April 16, 2015.

Reason Waived: The participant, who is a person with disabilities, required an exception payment standard to remain in the participant's current unit that meets the participant's needs. To provide this reasonable accommodation so that the participant could remain in the participant's current unit and pay no more than 40 percent of adjusted income toward the family share, HACA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Housing Authority of the County of Alameda (HACA), Hayward, CA.

Nature of Requirement: The regulation at 24 CFR 982.505(d) states that a PHA may only approve a higher payment standard for a family as a reasonable accommodation if the higher payment standard is within the basic range of 90 to 110 percent of the fair market rent (FMR) for the unit size.

Granted By: Lourdes Castro Ramírez, Principal Deputy Assistant Secretary for Public and Indian Housing.

Date Granted: April 16, 2015.

Reason Waived: The participant, who is a person with disabilities, required an exception payment standard to remain in the participant's current new unit that meets the participant's needs. To provide this reasonable accommodation so that the participant could remain in participant's unit and pay no more than 40 percent of adjusted income toward the family share, the HACA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: San Francisco Housing Authority (SFHA), San Francisco, CA.

Nature of Requirement: 24 CFR 982.505(d) states that a PHA may only approve a higher payment standard for a family as a reasonable accommodation if the higher payment standard is within the basic range of 90 to 110 percent of the fair market rent (FMR) for the unit size.

Granted By: Lourdes Castro Ramírez, Principal Deputy Assistant Secretary for Public and Indian Housing.

Date Granted: May 7, 2015.

Reason Waived: The two HUD-VASH participants, who are persons with disabilities, each required an exception payment standard to move to accessible units that met their needs. To provide this reasonable accommodation so that the participants could move to these units and pay no more than 40 percent of their adjusted income toward the family share, the SFHA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Boston Housing Authority (BHA), Boston, MA.

Nature of Requirement: The regulation 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: June 3, 2015.

Reason Waived: The client, whose child is a person with disabilities, required an exception payment standard so that the child could remain in the unit without being rent burdened. To provide this reasonable accommodation so that the client and child could remain in their current unit and pay no more than 40 percent of adjusted income toward the family share, BHA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Housing Authority of the County of Alameda (HACA), Hayward, CA.

Nature of Requirement: The regulation at 24 CFR 982.505(d) states that a PHA may only approve a higher payment standard for a family as a reasonable accommodation if the higher payment standard is within the basic range of 90 to 110 percent of the fair market rent (FMR) for the unit size.

Granted By: Lourdes Castro Ramírez, Principal Deputy Assistant Secretary for Public and Indian Housing.

Date Granted: June 8, 2015.

Reason Waived: The participant, who is a person with disabilities, required an exception payment standard to remain in the participant's current unit that meets the participant's needs. To provide this reasonable accommodation so that the participant could remain in the participant's current unit and pay no more than 40 percent of adjusted income toward the family share, the HACA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: City of Chandler Housing and Redevelopment Division (CCHRD), Chandler, AZ.

Nature of Requirement: The regulation at 24 CFR 982.505(d) states that a PHA may only approve a higher payment standard for a family as a reasonable accommodation if the higher payment standard is within the basic range of 90 to 110 percent of the fair market rent (FMR) for the unit size.

Granted By: Lourdes Castro Ramirez, Principal Deputy Assistant Secretary for Public and Indian Housing.

Date Granted: June 9, 2015.

Reason Waived: The participant, who is a person with disabilities, required an exception payment standard to remain in the participant's current unit that meets the participant's needs. To provide this reasonable accommodation so that the participant could remain in this unit and pay no more than 40 percent of adjusted income toward the family share, the CCHRD was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: San Francisco Housing Authority (SFHA), San Francisco, CA.

Nature of Requirement: The regulation at 24 CFR 982.505(d) states that a PHA may only approve a higher payment standard for a family as a reasonable accommodation if the higher payment standard is within the basic range of 90 to 110 percent of the fair market rent (FMR) for the unit size.

Granted By: Lourdes Castro Ramírez, Principal Deputy Assistant Secretary for Public and Indian Housing.

Date Granted: June 9, 2015.

Reason Waived: A HUD-VASH applicant, who is a person with disabilities, required an exception payment standard to move to accessible unit that met the person's needs. To provide this reasonable accommodation so that the applicant could move to this unit and pay no more than 40 percent of adjusted income toward the family share, the SFHA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: City of Des Moines Housing Services Department (CDMHS), Des Moines, IA.

Nature of Requirement: The regulation at 24 CFR 982.505(d) states that a PHA may only approve a higher payment standard for a family as a reasonable accommodation if the higher payment standard is within the basic range of 90 to 110 percent of the fair market rent (FMR) for the unit size.

Granted By: Lourdes Castro Ramírez, Principal Deputy Assistant Secretary for Public and Indian Housing.

Date Granted: June 15, 2015.

Reason Waived: The participant, who is a person with disabilities, required an exception payment standard to remain in the current unit that meets the participant's needs. To provide this reasonable accommodation so that the participant could remain in this unit and pay no more than 40 percent of adjusted income toward the family share, the CCHRD was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Washington County Department of Housing Services (WCDHS), Hillsboro, OR.

Nature of Requirement: The regulation at 24 CFR 982.505(d) states that a PHA may only approve a higher payment standard for a family as a reasonable accommodation if the higher payment standard is within the basic range of 90 to 110 percent of the fair market rent (FMR) for the unit size.

Granted By: Lourdes Castro Ramírez, Principal Deputy Assistant Secretary for Public and Indian Housing.

Date Granted: June 23, 2015.

Reason Waived: The participant, who is a person with disabilities, required an exception payment standard to remain in the current unit that meets the participant's needs. To provide this reasonable accommodation so that the participant could remain in this unit and pay no more than 40 percent of adjusted income toward the family share, the WCDHS was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: Housing Authority of Gloucester County (HAGC), Deptford, NJ.

Nature of Requirement: The regulation at 24 CFR 985.101(a) states a PHA must submit the HUD-required Section Eight Management Assessment Program (SEMAP) certification form within 60 calendar days after the end of its fiscal year.

Granted By: Lourdes Castro Ramírez, Principal Deputy Assistant Secretary for Public and Indian Housing.

Date Granted: April 17, 2015.

Reason Waived: This waiver was granted because for the HAGC's fiscal year ending December 31, 2014. The HAGC experienced an emergency in its public housing units and due to the time and effort to rehouse the affected families, the HAGC was unable to submit its SEMAP certification on or before March 1, 2015.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: Housing Authority of the Borough of Glassboro (HABG), Deptford, NJ.

Nature of Requirement: The regulation at 24 CFR 985.101(a) states a PHA must submit the HUD-required Section Eight Management Assessment Program (SEMAP) certification form within 60 calendar days after the end of its fiscal year.

Granted By: Lourdes Castro Ramírez, Principal Deputy Assistant Secretary for Public and Indian Housing.

Date Granted: April 21, 2015.

Reason Waived: This waiver was granted because for the HABG's fiscal year ending December 31, 2014. The Housing Authority of Gloucester County (HAGC) submits the SEMAP certification for HABG. HAGC experienced an emergency in its public housing units and due to the time and effort to rehouse the affected families, the HAGC was unable to submit the SEMAP certification for HABG on or before March 1, 2015.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: Bath Township Housing Commission (BTHC), Bath, MI.

Nature of Requirement: The regulation at 24 CFR 985.101(a) states a PHA must submit the HUD-required Section Eight Management Assessment Program (SEMAP) certification form within 60 calendar days after the end of its fiscal year.

Granted By: Lourdes Castro Ramirez, Principal Deputy Assistant Secretary for Public and Indian Housing.

Date Granted: April 21, 2015.

Reason Waived: BTHC provided documentation that, on February 18, 2015, it sent an email to REAC_TAC to report that it was unable to enter the fair market rents and payment standards of its SEMAP certification into the SEMAP module of IMS/PIC. It was also documented that REAC_TAC did not respond to BTHC until after the deadline noted above. The date of the email was March 9, 2015.

Contact: Becky Primeaux, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: City of Balch Springs (CBS), Balch Springs, TX.

Nature of Requirement: The regulation at 24 CFR 985.101(a) states a PHA must submit the HUD-required Section Eight Management Assessment Program (SEMAP) certification form within 60 calendar days after the end of its fiscal year.

Granted By: Lourdes Castro Ramirez, Principal Deputy Assistant Secretary for Public and Indian Housing.

Date Granted: May 29, 2015.

Reason Waived: The executive director was out of the office the week of Thanksgiving from November 24 through November 27, 2014. The SEMAP certification was due on November 29, 2014. The SEMAP coordinator was out of the office due to a family emergency at the same time and there was no time to prepare and submit the SEMAP certification by the deadline.

Contact: Becky Primeaux, Director, Housing Voucher Management and Operations Division, Office of Public Housing and Voucher Programs, Office of Public and Indian Housing, Department of Housing and Urban Development, 451 Seventh Street SW., Room 4210, Washington, DC 20410, telephone (202) 708-0477.

• Regulation: 24 CFR 983.51(b).

Project/Activity: Pasco County Housing Authority (PCHA), Dade City, FL.

Nature of Requirement: The regulation at 24 CFR 983.51(b) states that PHA must select project-based voucher (PBV) proposals in accordance with the selection procedures in the PHA's administrative plan by either a request for proposals or, alternatively, a selection of a proposal for housing assisted under a federal, state or local government housing assistance, community development or supportive services program that required a competitive selection of proposals.

Granted By: Lourdes Castro Ramirez, Principal Deputy Assistant Secretary for Public and Indian Housing.

Date Granted: May 18, 2015.

Reason Waived: HUD's Office of Public Housing Investments reported that PCHA, in partnership with Pasco County, applied for and received a HUD FY 2012 Choice Neighborhoods Planning Grant for the Lacoochee/Trilby area of Pasco County. PCHA owns two USDA Farmers Home developments, Cypress Manor (24 units) and Cypress Farms (102 units). The public housing units at Cypress Villas I (27 units) and Cypress Villas II (12 units) and the USDA units are contiguous with a similar look and need for improved conditions at the sites. However, the USDA units are no longer eligible for additional loans. By attaching PBV units to 25 USDA units (the maximum allowed under 24 CFR 983.56) at Cypress Farms, debt for the USDA units could be leveraged and improvements made.

Contact: Becky Primeaux, Housing Voucher Management and Operations Division, Office of Public Housing and Voucher Programs, Office of Public and Indian Housing, Department of Housing and Urban Development, 451 Seventh Street SW., Room 4210, Washington, DC 20410, telephone (202) 708-0477.

[FR Doc. 2015-23486 Filed 9-17-15; 8:45 am]

BILLING CODE 4210-67-P